DEPARTMENT OF AGRICULTURE

Submission for OMB Review; Comment Request

December 20, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 25, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: SNAP-Ed Connection Recipe Submission and Review Form (“What's Cooking?” USDA Mixing Bowl).

OMB Control Number: 0584-0624.

Summary of Collection: The authority for FNS to collect this information is contained in Section 28 of the Food and Nutrition Act (FNA) of 2008, as amended through Public Law 113-128. The What's Cooking? USDA Mixing Bowl (formerly the Food Stamp Nutrition Connection Recipe Finder, and then SNAP-Ed Connection Recipe Finder) https://whatscooking.fns.usda.gov is an online recipe database.

Need and Use of the Information: This database is a central location for recipe users to search for healthy recipes that support the Dietary Guidelines for Americans. The recipe database is a combination of recipes from USDA Food and Nutrition Service (FNS) programs such as the Food Distribution Program on Indian Reservations (FDPIR), Commodity Supplemental Food Program (CSFP), The Emergency Food Assistance Program (TEFAP), SNAP-Ed, and the Center for Nutrition Policy and Promotion (CNPP). The recipes benefit consumers (Individuals/Households), SNAP-Ed personnel, State Agency staff, school nutrition personnel (State, Local & Tribal Agencies) and the private sector (Business).

Description of Respondents: (105) Individual/Households, (55) Business-for-profit; Not-for-profit institutions; (90) State, Local or Tribal Government.

Number of Respondents: 250.

Frequency of Responses: Reporting: Once, On occasion.

Total Burden Hours: 27.

Ruth Brown,
Departmental Information Collection Clearance Officer.

[FR Doc. 2017-27727 Filed 12-22-17; 8:45 am]

BILLING CODE 3410-30-P